DEPARTMENT OF JUSTICE

Notice of Lodging of Consent Decree Between the United States of America, Certain Klamath Falls Homeowners, and the MBK Partnership and Its Partners and Affiliated Entities Under the Comprehensive Environmental Response, Compensation, and Liability Act

Pursuant to 28 CFR 50.7, notice is hereby given that on November 18, 2005, a proposed Consent Decree (“Consent Decree”) in the case of Burns v. MBK, et al. v. United States, Civil Action No. 03-3021-HO (D. Or.), was lodged with the United States District Court for the District of Oregon.

The United States claims in this action sought the recovery of costs incurred in connection with response actions taken by the United States Environmental Protection Agency at the North Ridge Estates residential real estate development in Klamath Falls, Oregon (“the Site”). Under the terms of the Consent Decree, the MBK Partnership, and its partners and affiliated entities, will pay $433,333 to EPA for the completion of an RI/FS at the Site. The United States will also pay, on behalf of the United States Department of Health and Human Services, General Services Administration, Department of the Navy and Department of Defense, $400,000 to EPA for the completion of the RI/FS. In addition, pursuant to a separate settlement of their civil litigation against the MBK defendants, the homeowners that are a party to the Consent Decree have agreed to receive compensation for their homes, and to vacate their homes, so that EPA may complete its investigation and response action at the Site, and a receiver appointed by the United States District Court for the District of Oregon may attempt to redevelop and sell the property in return for the implementation of any final cleanup action. Under the Consent Decree, the United States will provide a covenant not to sue and contribution protection to the homeowners, the MBK defendants, and the receiver.

The Department of Justice will receive for a period of thirty (30) days from the date of this publication comments relating to the Consent Decree. Comments should be addressed to the Assistant Attorney General, Environment and Natural Resources Division, P.O. Box 7611, U.S. Department of Justice, Washington, DC 20044-7611, and should refer to Burns v. MBK et al. v. United States, Civil Action No. 03-3021-HO (D. Ore.), D.J. Ref. 90-11-2-08462.

The Consent Decree may be examined at the Office of the United States Attorney, District of Oregon, 1000 SW. Third Ave., Portland, Oregon 97204-2902. During the public comment period, the Consent Decree may be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $9.50 (25 cents per page reproduction cost, without attachments) payable to the United States Treasury for payment.

Robert E. Maher, Jr.,
Assistant Section Chief, Environmental Enforcement Section, Environment and Natural Resources Division.

[FR Doc. 05-23269 Filed 11-23-05; 8:45 am]

BILLING CODE 4410-15-M